DEPARTMENT OF EDUCATION

Accrediting Agencies Currently Undergoing Review for the Purposes of Recognition by the U.S. Secretary of Education

AGENCY: U.S. Department of Education, Accreditation Group, Office of Postsecondary Education.

ACTION: Call for written third-party comments.

SUMMARY: This notice provides information to members of the public on submitting written comments for accrediting agencies currently undergoing review for purposes of recognition by the U.S. Secretary of Education.

FOR FURTHER INFORMATION CONTACT: Herman Bounds, Director, Accreditation Group, Office of Postsecondary Education, U.S. Department of Education, 400 Maryland Avenue SW, Room 2C158, Washington, DC 20202, telephone: (202) 453-7615, or email: herman.bounds@ed.gov.

SUPPLEMENTARY INFORMATION: This request for written third-party comments concerning the performance of accrediting agencies under review by the Secretary of Education is required by 496(n)(1)(A) of the Higher Education Act (HEA) of 1965, as amended, and pertains to the summer 2023 meeting of the National Advisory Committee on Institutional Quality and Integrity (NACIQI). The meeting date and location have not been determined, but will be announced in a later Federal Register notice. In addition, a later Federal Register notice will describe how to register to provide oral comments at the meeting.

Agencies Under Review and Evaluation: The Department requests written comments from the public on the following accrediting agencies, which are currently undergoing review and evaluation by the Accreditation Group, and which will be reviewed at the summer 2023 NACIQI meeting.

The agencies are listed by the type of application each agency has submitted. Please note, each agency's current scope of recognition is indicated below. If any agency requests a change to its scope of recognition, identified are both the current scope of recognition and the requested scope of recognition.

Applications for Renewal of Recognition

1. Association of Advanced Rabbinical and Talmudic Schools, Accreditation Commission. Scope of Recognition: The accreditation and pre-accreditation (“Correspondent” and “Candidate”) of advanced rabbinical and Talmudic schools to include Associate, Baccalaureate, Masters, Doctorate, and First Rabbinic and First Talmudic degrees programs.

Geographic Area of Accrediting Activities: Throughout the United States.

2. Academy of Nutrition and Dietetics, Accreditation Council for Education in Nutrition and Dietetics. Scope of Recognition: The accreditation and pre-accreditation, of Didactic and Coordinated Programs in Dietetics at both the undergraduate and graduate level, postbaccalaureate Dietetic Internships, and Dietetic Technician Programs at the associate degree level and for its accreditation of such programs offered via distance education.

Geographic Area of Accrediting Activities: Throughout the United States.

3. American Optometric Association, Accreditation Council on Optometric Education. Scope of Recognition: The accreditation of professional optometric degree programs and optometric residency programs, and for the pre-accreditation category of Preliminary Approval for professional optometric degree programs.

Geographic Area of Accrediting Activities: Throughout the United States.

4. Commission on Collegiate Nursing Education. Scope of Recognition: The accreditation of nursing education programs at the baccalaureate, master's, doctoral, and certificate levels, including programs offering distance education.

Geographic Area of Accrediting Activities: Throughout the United States.

5. Council on Accreditation of Nurse Anesthesia Educational Programs. Scope of Recognition: The accreditation of institutions and programs of nurse anesthesia at the post master's certificate, master's, or doctoral degree levels, including programs offering distance education.

Geographic Area of Accrediting Activities: Throughout the United States.

Requested Scope of Recognition: The accreditation of institutions and programs of nurse anesthesia at the post master's certificate, post-doctoral certificate, master's, or doctoral degree levels, including programs offering distance education.

Geographic Area of Accrediting Activities: Throughout the United States.

6. Liaison Committee on Medical Education. Scope of Recognition: The accreditation of medical education programs leading to the M.D. degree.

Geographic Area of Accrediting Activities: Throughout the United States.

7. National Association of Schools of Art and Design, Commission on Accreditation. Scope of Recognition: The accreditation of freestanding institutions and units offering art/design and art/design-related programs (both degree- and non-degree-granting), including those offered via distance education.

Geographic Area of Accrediting Activities: Throughout the United States.

8. Northwest Commission on Colleges and Universities. Scope of Recognition: The accreditation and pre-accreditation (“Candidacy status”) of postsecondary degree-granting educational institutions and the accreditation of programs offered via distance education within these institutions.

Geographic Area of Accrediting Activities: Throughout the United States.

Compliance Report

1. Commission on Massage Therapy Accreditation. Scope of Recognition: The accreditation of institutions and programs that award postsecondary certificates, postsecondary diplomas, academic Associate degrees and occupational Associate degrees, in the practice of massage therapy, bodywork, and aesthetics/esthetics and skin care. Geographic Area of Accrediting Activities: Throughout the United States.

The compliance report addresses findings of noncompliance with 34 CFR 602 as referenced in the senior Department official's (SDO) decision letter dated June 02, 2021, available under NACIQI meeting date February 25, 2021, available at: https://surveys.ope.ed.gov/erecognition/PublicDocuments.

Submission of Written Comments Regarding a Specific Accrediting Agency Under Review

Written comments about the recognition of any of the accrediting agencies listed above must be received by June 06, 2022, in the ThirdPartyComments@ed.gov mailbox. Please include in the subject line “Written Comments: (agency name).” The electronic mail (email) must include the name(s), title, organization/affiliation, mailing address, email address, and telephone number of the person(s) making the comment. Comments should be submitted as a PDF, Microsoft Word document or in a medium compatible with Microsoft Word that is attached to an email or provided in the body of an email message. Comments about an agency that has submitted a compliance report scheduled for review by the Department must relate to the criteria for recognition cited in the SDO's letter that requested the report, or in the Secretary's appeal decision, if any. Comments about an agency that has submitted a petition for initial recognition, renewal of recognition, or an expansion of scope must relate to the agency's compliance with the Criteria for the Recognition of Accrediting Agencies, which are available at: https://www.ecfr.gov/current/title-34/subtitle-B/chapter-VI/part-602?toc=1.

Only written materials submitted by the deadline to the email address listed in this notice, and in accordance with these instructions, become part of the official record concerning agencies scheduled for review and are considered by the Department and NACIQI in their deliberations.

Electronic Access to this Document: The official version of this document is the document published in the Federal Register. Free internet access to the official edition of the Federal Register and the Code of Federal Regulations is available via the Federal Digital System at: www.gpo.gov/fdsys. At this site, you can view this document, as well as all other documents of the Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c; 20 U.S.C. 1099b.

Annmarie Weisman,
Deputy Assistant Secretary for Policy, Planning, and Innovation, Office of Postsecondary Education.

[FR Doc. 2022-09582 Filed 5-4-22; 8:45 am]

BILLING CODE P